DEPARTMENT OF COMMERCE

National Oceanic and Atmospheric Administration

[I.D. 011702C]

Endangered and Threatened Species; Take of Anadromous Fish

AGENCY: National Marine Fisheries Service (NMFS), National Oceanic and Atmospheric Administration (NOAA), Commerce.

ACTION: Notice of availability and request for comments.

SUMMARY: Notice is hereby given that the State of Washington through Washington State Department of Transportation (WSDOT), King, Pierce, Snohomish, Clallam, Kitsap, Mason, and Thurston Counties, and the Cities of Bellevue, Bremerton, Burien, Covington, Edgewood, Everett, Kenmore, Kent, Lake Forest Park, Lakewood, Maple Valley, Newcastle, Renton, Sammamish, Shoreline, Tacoma, and University Place have jointly submitted a Routine Road Maintenance Program (RMP) pursuant to protective regulations promulgated under the ESA. The RMP would affect 12 Evolutionarily Significant Units (ESUs) of threatened salmonids identified in the SUPPLEMENTARY INFORMATION. This document serves to notify the public of the availability of the RMP for review and comment before a final approval or disapproval is made by NMFS.

DATES: Written comments on the draft RMP must be received at the appropriate address or fax number (see ADDRESSES) no later than 5 p.m. Pacific Standard Time on February 25, 2002.

ADDRESSES: Written comments should be sent to Laura Hamilton, Habitat Conservation Division, National Marine Fisheries Service, 510 Desmond Drive, Suite 103, Lacey, Washington 98503. Comments may also be faxed to 360-753-9517. Copies of the entire RMP are available on the Internet at http://www.metrokc.gov/roadcon/bmp/pdfguide.htm, or from the address posted on that site. Comments will not be accepted if submitted via email or the Internet.

FOR FURTHER INFORMATION CONTACT: Laura Hamilton at phone number 360-753-5820, or e-mail: Laura.Hamilton@noaa.gov.

SUPPLEMENTARY INFORMATION: This notice is relevant to the following 12 threatened salmonid ESUs: Puget Sound, Lower Columbia River, Upper Willamette River, Snake River spring/summer, Snake River fall chinook salmon (Oncorhynchus tshawytscha); Hood Canal summer-run and Columbia River chum salmon (O. Keta); Ozette Lake sockeye salmon (O. Nerka), and; Snake River Basin, Lower Columbia River, Upper Willamette River, and Middle Columbia River steelhead (O. mykiss).

Background

WSDOT and the counties and cities named above, submitted the RMP for routine road maintenance activities that might affect certain salmonid ESUs listed as threatened in Washington State. The RMP was designed so that routine road maintenance activities would be protective of salmonids and their habitat.

In Part 1, the RMP describes the program framework including the 10 program elements that comprise the program (Regional Forum, Program Review, Best Management Practices (BMPs) and Conservation Outcomes (element 3), Training, Compliance Monitoring, Research, Adaptive Management, Emergency Response, Biological Data Collection, and Reporting). In Part 2, the RMP elaborates on element 3, the BMPs, in much greater detail and provides detailed instructions to crews, supervisors, environmental support staff, design personnel and managers. Part 3 describes a process by which additional counties, cities, and ports in Washington State may develop routine road maintenance programs by adopting RMP parts 1 and 2, and then submit their RMP to NMFS for review, public comment, and approval or disapproval.

The RMP defines what activities are routine road maintenance. These consist of maintenance activities that are conducted on currently serviceable structures, facilities, and equipment, involve no expansion of or change in use, and do not result in significant negative hydrological impact.

Finally, the RMP includes a biological review of the RMP prepared by WSDOT and the other entities named above. The biological review analyzes the effects of the RMP on listed salmonids and their habitat statewide. The biological review concludes that the identified routine road maintenance activities conducted throughout Washington State under the RMP will not impair properly functioning habitat, nor appreciably reduce the functioning of already impaired habitat, nor retard the long-term progress of impaired habitat toward PFC. Approval or disapproval of the RMP will depend on NMFS’ findings after public review and comment.

As specified in the July 10, 2000, ESA 4(d) rule for salmon and steelhead (65 FR 42422), NMFS may approve a routine road maintenance program of any state, city, county, or port, provided that NMFS finds the activities to be consistent with the conservation of listed salmonids’ habitat by contributing to the attainment and maintenance of properly functioning condition. Prior to final approval of a routine road maintenance program, NMFS must publish notification in the Federal Register announcing the program’s availability for public review and comment.

Authority

Under section 4 of the ESA, the Secretary of Commerce is required to adopt such regulations as he deems necessary and advisable for the conservation of species listed as threatened. The ESA salmon and steelhead 4(d) rule (65 FR 42422, July 10, 2000) specifies categories of activities that contribute to the conservation of listed salmonids and sets out the criteria for such activities. The rule further provides that the prohibitions of paragraph (a) of the rule do not apply to activities associated with routine road maintenance provided that a state or local program has been approved by NMFS to be in accordance with the salmon and steelhead 4(d) rule (65 FR 42422, July 10, 2000).

Dated: January 18, 2002.
Phil Williams,
Acting Chief, Endangered Species Division, Office of Protected Resources, National Marine Fisheries Service.

[FR Doc. 02-1873 Filed 1-24-02; 8:45 am]

BILLING CODE 3510-22-S